DEPARTMENT OF ENERGY

Federal Energy Regulatory Commission

[Docket No. IC02-11-001, FERC Form 11]

Commission Information Collection Activities; Comment Request; Submitted for OMB Review

August 20, 2002.

AGENCY: Federal Energy Regulatory Commission.

ACTION: Notice.

SUMMARY: In compliance with the requirements of section 3507 of the Paperwork Reduction Act of 1995, 44 U.S.C. 3507, the Federal Energy Regulatory Commission (Commission) has submitted the information collection described below to the Office of Management and Budget (OMB) for review and reinstatement. Any interested person may file comments directly with OMB and should address a copy of those comments to the Commission as explained below. The Commission received no comments in response to an earlier Federal Register notice of April 15, 2002 (67 FR 18183) and has made this notation in its submission to OMB.

DATES: Comments on the collection of information are due by September 22, 2002.

ADDRESSES: Address comments to the Office of Management and Budget, Office of Information ad Regulatory Affairs, Attention: Federal Energy Regulatory Commission, Desk Officer, 725 17th Street, NW., Washington, DC 20503. A copy of the comments should also be sent to the Federal Energy Regulatory Commission, Office of the Chief Information Officer, CI-1, Attention: Michael Miller, 888 First Street NE., Washington, DC 20426. Comments may be filed either in paper format or electronically. Those filing electronically do not need to make a paper filing.

For paper filings, such comments should be submitted to the Office of the Secretary, Federal Energy Regulatory Commission, 888 First Street, NE. Washington, DC 20426 and should refer to [Docket No. IC02-11-001].

Documents filed electronically via the Internet must be prepared in WordPerfect, MS Word, Portable Document Format, or ASCII format. To file the document, access the Commission's website at www.ferc.gov and click on “Make an E-filing,” and then follow the instructions for each screen. First time users will have to establish a user name and password. The Commission will send an automatic acknowledgment to the sender's E-mail address upon receipt of comments. User assistance for electronic filings is available at 202-208-0258 or by e-mail to efiling@ferc.fed.us. Comments should not be submitted to the e-mail address.

All comments may be viewed, printed or downloaded remotely via the Internet through FERC's homepage using the FERRIS link. User assistance for FERRIS is available at 202-502-8222, or by e-mail to contentmaster@ferc.gov.

FOR FURTHER INFORMATION CONTACT: Michael Miller may be reached by telephone at (202)502-8415, by fax at (202)208-2425, and by e-mail at michael.miller@ferc.gov.

SUPPLEMENTARY INFORMATION:

Description

The information collection submitted for OMB review contains:

1. Collection of Information: FERC Form 11 “Natural Gas Monthly Quarterly Statement of Monthly Data”.

2. Sponsor: Federal Energy Regulatory Commission.

3. Control No.: OMB No. 1902-0032.

On May 19, 1999, the Office of Management and Budget (OMB) approved the reporting requirements in FERC Form 11 for a term of three years, the maximum period permissible under the Paperwork Reduction Act before an information collection must be resubmitted for approval. As noted above, this notice seeks public comments in order to recertify the FERC Form 11 reporting requirements. The initial comment period in the Federal Register noted above, extended past the expiration date for the FERC Form 11. Because of this lapse, the Commission seeks to have Form 11 reinstated and approved for an additional three years. There are no changes to the existing collection and increases in the reporting burden are for adjustments only. This is a mandatory information collection requirement and the Commission does not consider the information to be confidential.

4. Necessity of the Collection of Information: Submission of the information is necessary for the Commission to carry out its responsibilities in implementing the statutory provisions of sections 10(a) and 16 of the Natural Gas Act (NGA) 15 U.S.C. 717-717w and the Natural Gas Policy Act of 1978 (NGPA) (15 U.S.C. 3301-3432). The NGA and the NGPA authorize the Commission to prescribe rules and regulations requiring natural gas pipeline companies whose gas was transported or stored for a fee and exceeded 50 million dekatherms in each of the three previous calendar years to submit FERC Form 11.

The information collected on the Form 11 allows the Commission to follow developing trends on a pipeline's system. In particular, gas revenues and quantities of gas by rate schedule, transition costs from upstream pipelines and reservation charges are reported to the Commission for review. This information is used to assess the reasonableness of the various revenues and costs of service items claimed in rate filings. The information also provides the Commission with a view of the status of pipeline activities, allows revenue comparisons between pipelines, and provides financial status of regulated pipelines. The Commission implements these filing requirements in the Code of Federal Regulations (CFR) under 18 CFR 260.3 and sections 385.2011.

5. Respondent Description: The respondent universe currently comprises on average 58 companies subject to the Commission's jurisdiction. Note: In the initial notice, the Commission indicated 55 respondents but further evaluation has determined the number of respondents has increased to 58.

6. Estimated Burden: 696 total hours, 58 respondents, 4 responses annually, 3hours per response (average).

7. Estimated Cost Burden to Respondents: Estimated cost burden to respondents: 696 hours / 2,080 hours per year x $117,041 per year = $39,164. The cost per respondent is equal to $ 675.

Statutory Authority: Sections 10(a) and 16 of the Natural Gas Act (NGA) 15 U.S.C. 717-717w and the Natural Gas Policy Act of 1978 (NGPA) (15 U.S.C. 3301-3432).

Linwood A. Watson, Jr.,
Deputy Secretary.

[FR Doc. 02-21719 Filed 8-26-02; 8:45 am]

BILLING CODE 6717-01-P